SECURITIES AND EXCHANGE COMMISSION

Sunshine Act Meetings

TIME AND DATE: Notice is hereby given, pursuant to the provisions of the Government in the Sunshine Act, Public Law 94-409, that the Securities and Exchange Commission will hold an Open Meeting on Wednesday, February 26, 2025, at 10 a.m. (ET).

PLACE: The meeting will be held in Auditorium LL-002 at the Commission's headquarters, 100 F Street NE, Washington, DC 20549 and will be simultaneously webcast on the Commission's website at www.sec.gov.

STATUS: This meeting will begin at 10:00 a.m. (ET) and will be open to the public. Seating will be on a first-come, first-served basis. Visitors will be subject to security checks. The meeting will be webcast on the Commission's website at www.sec.gov.

MATTERS TO BE CONSIDERED:

1. The Commission will consider whether to extend the compliance dates for Rule 17ad-22(e)(18)(iv)(A) and (B) under the Securities Exchange Act of 1934 (“Exchange Act”), and whether to issue a temporary exemption for U.S. Treasury securities CCAs regarding Rule 17ad-22(e)(6)(i) under the Exchange Act (and a similar exemption under Section 19(g) of the Exchange Act), which apply to covered clearing agencies that provide central counterparty services for U.S. Treasury securities.

CONTACT PERSON FOR MORE INFORMATION: For further information, please contact Vanessa A. Countryman from the Office of the Secretary at (202) 551-5400.

Authority: 5 U.S.C. 552b.

Dated: February 19, 2025.
Sherry R. Haywood,
Assistant Secretary.

[FR Doc. 2025-03036 Filed 2-20-25; 11:15 am]

BILLING CODE 8011-01-P